ENVIRONMENTAL PROTECTION AGENCY

[OPP-181072; FRL-6485-7]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. These exemptions or denials were issued during the period between January 1, 1999, through December 15, 1999, to control unforseen pest outbreaks. The actions detailed in this document do not represent every FIFRA section 18 emergency exemption decision issued by EPA during the above time period.

FOR FURTHER INFORMATION CONTACT: See each emergency exemption or denial for the name of a contact person. The following information applies to all contact persons: Team Leader, Emergency Response Team, Registration Division (7505C), Office of Pesticide Programs, Environmental Protection Agency, Ariel Rios Building, 1200 Pennsylvania Avenue, NW., Washington, DC 20460; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does This Action Apply to Me?

You may be potentially affected by this action if you petition EPA for authorization under section 18 of FIFRA to use pesticide products which are otherwise unavailable for a given use. Potentially affected categories and entities may include, but are not limited to:

Categories | NAICS codes | Examples of potentially affected entities
State and Territorial government agencies charged with pesticide authority | 9241 | State agencies that petition EPA for section 18 pesticide use authorization

This listing is not intended to be exhaustive, but rather provides a guide for readers regarding entities likely to be regulated by this action. Other types of entities not listed in the table in this unit could also be regulated. The North American Industrial Classification System (NAICS) codes have been provided to assist you and others in determining whether or not this action applies to certain entities. To determine whether you or your business is affected by this action, you should carefully examine the applicability provisions. If you have any questions regarding the applicability of this action to a particular entity, consult the person listed under “FOR FURTHER INFORMATION CONTACT.”

B. How Can I Get Additional Information or Copies of This Document or Other Documents?

1. Electronically . You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number OPP-181072. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall 2, 1921 Jefferson Davis Hwy., Arlington, VA, from 8:30 a.m. to 4 p.m., Monday through Friday, excluding legal holidays. The PIRIB telephone number is (703) 305-5805.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U.S. States and Territories

Alabama

Department of Agriculture and Industries

Crisis: On August 24, 1999, for the use of tebufenozide on pasture land to control fall army worms. This program ended on October 31, 1999. Contact: Barbara Madden

On August 26, 1999, for the use of spinosad on soybeans to control caterpillars. This program ended on September 10, 1999. Contact: Andrew Ertman

Specific: EPA authorized the use of coumaphos in beehives to control varroa mites and small hive beetle; April 9, 1999, to December 31, 1999. Contact: Barbara Madden

EPA authorized the use of chlorfenapyr on cotton to control beet armyworm; June 14, 1999, to September 30, 1999. Contact: Andrea Beard

EPA authorized the use of emamectin benzoate on cotton to control beet armyworm and tobacco budworm; August 3, 1999, to September 30, 1999. Contact: Andrea Beard

EPA authorized the use of tebufenozide in pasture land to control fall army worms; September 17, 1999, to October 31, 1999. Contact: Barbara Madden

Arizona

Department of Agriculture

Denial: On October 21, 1999 EPA denied the use of fipronil on cotton to control Lygus bugs. This request was denied because the claim of resistance was not fully substantiated. Contact: Andrew Ertman.

Specific: EPA authorized the use of tebuconazole on garlic to control garlic rust; May 19, 1999, to December 31, 1999. Contact: Steve Schaible

EPA authorized the use of metolachlor on spinach to control weeds; September 16, 1999, to May 15, 2000. Contact: Andrew Ertman

EPA authorized the use of coumaphos in beehives to control varroa mite and small hive beetle October 27, 1999, to October 21, 2000. Contact: Barbara Madden

Arkansas

State Plant Board

Crisis: On June 8, 1999, for the use of sodium chlorate on wheat as a harvest aid. This program ended on June 22, 1999. Contact: Libby Pemberton

On August 9, 1999, for the use of maleic hydrazide on rice to control red rice. This program ended on August 24, 1999. Contact: Steve Schaible

Denial: On February 16, 1999 EPA denied the use of bispyribac-sodium on rice to control Bermuda grass. This request was denied because at this time the Agency is not able to reach a “reasonable certainty of no harm” finding regarding health effects which may result if this use were to occur. Additionally, EPA is unable at this time to conclude that there will not be unacceptable adverse effects to the environment, including non-target organisms, endangered species, and ground water resources. Bispyribac-sodium is an unregistered chemical for which EPA has minimal data previously reviewed. Contact: David Deegan.

On May 6, 1999 EPA denied the use of fenoxaprop-ethyl on rice to control Bermuda grass. This request was denied because this formulation of the pesticide included a new and unregistered inert ingredient, for which the Agency does not have adequate amounts of previously reviewed data with which it is able to reach a “reasonable certainty of no harm” finding regarding health effects which may result if this use were to occur. Contact: David Deegan.

Specific: EPA authorized the use of carbofuran flowable formulation on cotton to control aphids; April 30, 1999, to September 30, 1999. Contact: David Deegan

EPA authorized the use of coumaphos in beehives to control varroa mite and small hive beetle June 3, 1999, to June 3, 2000. Contact: Barbara Madden

EPA authorized the use of emamectin benzoate on cotton to control beet armyworm June 4, 1999, to September 30, 1999. Contact: Andrea Beard

EPA authorized the use of chlorfenapyr on cotton to control beet armyworm June 14, 1999, to September 30, 1999. Contact: Andrea Beard

EPA authorized the use of emamectin benzoate on cotton to control tobacco budworm June 18, 1999, to September 30, 1999. Contact: Andrea Beard

EPA authorized the use of tebufenozide on cotton to control beet armyworm June 18, 1999, to September 30, 1999. Contact: Andrea Beard

California

Environmental Protection Agency, Department of Pesticide Regulation

Crisis: On July 19, 1999, for the use of spinosad on blackeyed beans to control leafminers. This program ended on October 1, 1999. Contact: Andrew Ertman

On November 1, 1999, for the use of paraquat on artichokes to control various weeds and grasses. This program ended on November 1, 2000. Contact: Libby Pemberton

Specific: EPA authorized the use of tebuconazole on barley to control barley stripe rust; April 9, 1999, to August 15, 1999. Contact: Steve Schaible

EPA authorized the use of carfentrazone-ethyl on rice to control California arrowhead and Ricefield bulrush; April 22, 1999, to August 15, 1999. Contact: Steve Schaible

EPA authorized the use of carbofuran flowable formulation on cotton to control aphids; April 30, 1999, to October 15, 1999. Contact: David Deegan

EPA authorized the use of tebuconazole on pistachios to control Alternaria late blight and Botryosphaeria panicle and shoot blight; May 4, 1999, to September 15, 1999. Contact: Steve Schaible

EPA authorized the use of hexythiazox on cotton to control various spider mites; May 6, 1999, to August 1, 1999. Contact: David Deegan

EPA authorized the use of propamocarb hydrochloride on tomatoes to control late blight; May 20, 1999, to May 19, 2000. Contact: Libby Pemberton

EPA authorized the use of propamocarb hydrochloride on potatoes to control late blight; May 25, 1999, to May 25, 2000. Contact: Libby Pemberton

EPA authorized the use of avermectin on basil to control leafminer; June 15, 1999, to September 30, 1999. Contact: Barbara Madden

EPA authorized the use of coumaphos in beehives to control varroa mites and small hive beetles; July 23, 1999, to July 20, 2000. Contact: Barbara Madden

EPA authorized the use of imidacloprid on turnip greens and garden beets to control aphids; August 30, 1999, to August 6, 2000. Contact: Andrew Ertman

EPA authorized the use of avermectin on celeriac to control two spotted spider mite; September 10, 1999, to September 10, 2000. Contact: Dan Rosenblatt

EPA authorized the use of carboxin on onion seed to control onion smut; September 30, 1999, to May 31, 2000. Contact: Steve Schaible

EPA authorized the use of cyromazine on onion seed to control onion maggots; October 5, 1999, to May 31, 2000. Contact: Steve Schaible

EPA authorized the use of paraquat on artichokes to control various weeds and grasses; November 3, 1999, to November 3, 2000. Contact: Libby Pemberton

EPA authorized the use of tebuconazole on garlic to control garlic rust; November 4, 1999, to July 3, 2000. Contact: Steve Schaible

EPA authorized the use of spinosad on agricultural commodities to control exotic fruit flies in quarantine certification programs throughout the State; November 8, 1999, to November 8, 2002. Contact: Dan Rosenblatt

EPA authorized the use of imidacloprid on strawberries to control whiteflies; December 24, 1999, to December 23, 2000. Contact: Andrea Beard

Colorado

Department of Agriculture

Specific: EPA authorized the use of lambda-cyhalothrin on barley to control the Russian wheat aphid; May 13, 1999, to June 15, 1999. Contact: Andrew Ertman

EPA authorized the use of imazamox on dry beans to control various nightshade species and velvetleaf; June 1, 1999, to July 15, 1999. Contact: Barbara Madden

EPA authorized the use of propiconazole on dry beans to control rust; July 1, 1999, to August 31, 1999. Contact: Steve Schaible

EPA authorized the use of coumaphos in beehives to control varroa mites and small hive beetles; July 23, 1999, to July 20, 2000. Contact: Barbara Madden

EPA authorized the use of chlorine dioxide on stored potatoes to control late blight; September 21, 1999, to September 17, 2000. Contact: Andrew Ertman

Connecticut

Department of Environmental Protection

Specific: EPA authorized the use of propiconazole on blueberries to control mummy berry disease; March 15, 1999, to June 30, 1999. Contact: Steve Schaible

EPA authorized the use of coumaphos in beehives to control varroa mite and small hive beetle September 2, 1999, to August 31, 2000. Contact: Barbara Madden

Delaware

Department of Agriculture

Specific: EPA authorized the use of chlorpropham on spinach to control chickweed; March 1, 1999, to March 5, 2000. Contact: David Deegan

EPA authorized the use of coumaphos in beehives to control varroa mites and small hive beetle; March 24, 1999, to March 24, 2000. Contact: Barbara Madden

EPA authorized the use of myclobutanil on cucurbit vegetables to control powdery mildew; July 16, 1999, to September 30, 1999. Contact: David Deegan

Florida

Department of Agriculture and Consumer Services

Crisis: On January 15, 1999, for the use of tebufenozide on lychee to control Lychee webworm. This program is expected to end on March 1, 2000. Contact: Barbara Madden

On March 2, 1999, for the use of tebufenozide on longan to control Lychee webworm. This program is expected to end on March 1, 2000. Contact: Barbara Madden

On May 19, 1999, for the use of naled in bait stations to control Oriental fruit fly. This program is expected to end on September 9, 2000. Contact: Dan Rosenblatt

Quarantine: EPA authorized the use of naled in bait stations to control the Oriental fruit fly; September 9, 1999, to September 9, 2002. Contact: Dan Rosenblatt

Specific: EPA authorized the use of coumaphos in beehives to control varroa mites and small hive beetle; January 1, 1999, to January 1, 2000. Contact: Barbara Madden

EPA authorized the use of tebufenozide on lychee to control Lychee webworm; March 4, 1999, to March 1, 2000. Contact: Barbara Madden

EPA authorized the use of tebufenozide on longan to control Lychee webworm; March 4, 1999, to March 4, 2000. Contact: Barbara Madden

EPA authorized the use of myclobutanil on strawberries to control powdery mildew; March 18, 1999, to December 31, 1999. Contact: Steve Schaible

EPA authorized the use of Switch 62.5 WG containing the active ingredients fludioxonil and cyprodinil on strawberries to control gray mold; April 8, 1999, to May 15, 1999. Contact: Steve Schaible

EPA authorized the use of chlorfenapyr on cotton to control beet armyworm; June 14, 1999, to September 30, 1999. Contact: Andrea Beard

EPA authorized the use of imidacloprid on citrus to control the citrus leafminer and brown citrus aphid; July 1, 1999, to June 30, 2000. Contact: Andrew Ertman

EPA authorized the use of imidacloprid on legume vegetables Crop Group 6 to control silverleaf whitefly; September 27, 1999, to September 27, 2000. Contact: Andrea Beard

Georgia

Department of Agriculture

Specific: EPA authorized the use of coumaphos in beehives to control varroa mites and small hive beetle; January 1, 1999, to January 1, 2000. Contact: Barbara Madden

EPA authorized the use of chlorfenapyr on cotton to control beet armyworm; June 14, 1999, to September 30, 1999. Contact: Andrea Beard

Hawaii

Department of Agriculture

Specific: EPA authorized the use of myclobutanil on watermelon to control powdery mildew; May 8, 1999, to May 7, 2000. Contact: David Deegan

Idaho

Department of Agriculture

Crisis: On March 15, 1999, for the seed treatment use of fosetyl-Al on peas to control downy mildew. This program ended on June 1, 1999. Contact: Steve Schaible

On June 23, 1999, for the use of cymoxanil on hops to control downy mildew. This program ended on September 10, 1999. Contact: Libby Pemberton

Specific: EPA authorized the use of coumaphos in beehives to control varroa mites and small hive beetle; February 1, 1999, to February 1, 2000. Contact: Barbara Madden

EPA authorized the seed treatment use of fosetyl-Al on peas to control downy mildew; March 29, 1999, to June 1, 1999. Contact: Steve Schaible

EPA authorized the use of tebuconazole on barley to control barley stripe rust; April 23, 1999, to August 15, 1999. Contact: Steve Schaible

EPA authorized the use of myclobutanil on hops to control powdery mildew; April 27, 1999, to September 22, 1999. Contact: David Deegan

EPA authorized the use of tebuconazole on hops to control powdery mildew; April 27, 1999, to September 22, 1999. Contact: David Deegan

EPA authorized the use of imazamox on dry beans to control various nightshade species and velvetleaf; May 1, 1999, to July 1, 1999. Contact: Barbara Madden

EPA authorized the use of pyridate on mint to control redroot pigweed and kochia; May 1, 1999, to December 31, 1999. Contact: Barbara Madden

EPA authorized the use of paraquat dichloride on green peas grown for seed and dry peas to control weeds; May 25, 1999, to November 30, 1999. Contact: Libby Pemberton

EPA authorized the use of propamocarb hydrochloride on potatoes to control late blight; June 10, 1999, to June 10, 2000. Contact: Libby Pemberton

EPA authorized the use of trifloxystrobin on hops to control powdery mildew; June 28, 1999, to September 22, 1999. Contact: Dave Deegan

EPA authorized the use of cyhexatin on hops to control Two-spotted spider mites; July 1, 1999, to September 20, 1999. Contact: David Deegan

EPA authorized the use of difenoconazole on sweet corn seed to control damping-off and die-back diseases; September 3, 1999, to September 3, 2000. Contact: Andrea Beard

EPA authorized the use of chlorine dioxide on stored potatoes to control late blight; September 8, 1999, to August 31, 2000. Contact: Andrew Ertman

EPA authorized the use of flufenacet on wheat to control Italian ryegrass or annual ryegrass; October 4, 1999, to June 30, 2000. Contact: Barbara Madden

Illinois

Department of Agriculture

Specific: EPA authorized the use of coumaphos in beehives to control varroa mites and small hive beetle; April 20, 1999, to April 20, 2000. Contact: Barbara Madden

EPA authorized the use of fomesafen on snap beans to control weeds; June 25, 1999, to August 31, 1999. Contact: Andrea Beard

EPA authorized the use of tebufenozide on apples to control the tufted apple bud moth; July 15, 1999, to August 31, 1999. Contact: Andrew Ertman

Indiana

Office of Indiana State Chemist

Specific: EPA authorized the use of coumaphos in beehives to control varroa mites and small hive beetle; April 5, 1999, to April 5, 2000. Contact: Barbara Madden

EPA authorized the use of pyridate on mint to control redroot pigweed; May 1, 1999, to December 31, 1999. Contact: Barbara Madden

Iowa

Department of Agriculture and Land Stewardship

Specific: EPA authorized the use of coumaphos in beehives to control varroa mites and small hive beetle; March 9, 1999, to March 8, 2000. Contact: Barbara Madden

Kansas

Department of Agriculture

Crisis: On June 11, 1999, for the use of metsulfuron-methyl on sorghum to control weeds. This program ended on August 15, 1999. Contact: Andrew Ertman

On August 18, 1999, for the use of bifenthrin on sorghum grown for seed to control Banks grass mite. This program ended on September 2, 1999. Contact: Andrea Beard

Denial: On May 5, 1999 EPA denied the use of propazine on sorghum to control broadleaf weeds. This request was denied because aggregate risk from the triazine herbicides exceeds the level the Agency considers to represent “a reasonable certainty of no harm.” Contact: Steve Schaible.

Specific: EPA authorized the use of propiconazole on dry beans to control rust; June 1, 1999, to August 15, 1999. Contact: Steve Schaible

EPA authorized the use of metsulfuron-methyl on sorghum to control weeds; June 11, 1999, to August 15, 1999. Contact: Andrew Ertman

EPA authorized the use of propiconazole on grain sorghum to control sorghum ergot; July 31, 1999, to September 30, 1999. Contact: Steve Schaible

Kentucky

Department of Agriculture

Specific: EPA authorized the use of coumaphos in beehives to control varroa mites and small hive beetle; October 28, 1999, to October 28, 2000. Contact: Barbara Madden

Louisiana

Department of Agriculture and Forestry

Crisis: On May 4, 1999, for the use of tebufenozide on rice to control fall armyworm. This program ended on September 1, 1999. Contact: Barbara Madden

On June 4, 1999, for the use of tebufenozide on sweet potatoes to control the beet armyworm. This program ended on October 31, 1999. Contact: Andrew Ertman

On June 23, 1999, for the use of tebufenozide on pasture land to control fall army worms. This program ended on October 15, 1999. Contact: Barbara Madden

On July 14, 1999, for the use of azoxystrobin on soybeans to control aerial blight. This program ended on August 30, 1999. Contact: Jacqueline Gwaltney

On July 17, 1999, for the use of tebufenozide on soybeans to control fall armyworms. This program ended on August 2, 1999. Contact: Andrew Ertman

Denial: On August 23, 1999 EPA denied the use of clomazone on sugarcane to control Bermudagrass. This request was denied because EPA's review concluded that the situation was not an emergency. Weed control has become somewhat more problematic as total acreage in cultivation has increased, however this does not constitute an “urgent and non-routine” situation. Contact: David Deegan.

Specific: EPA authorized the use of coumaphos in beehives to control varroa mites and small hive beetle; March 5, 1999, to March 5, 2000. Contact: Barbara Madden

EPA authorized the use of carbofuran flowable formulation on cotton to control aphids; March 15, 1999, to September 30, 1999. Contact: David Deegan

EPA authorized the use of maleic hydrazide on rice to control red rice; June 1, 1999, to September 30, 1999. Contact: Steve Schaible

EPA authorized the use of chlorfenapyr on cotton to control beet armyworm; June 14, 1999, to September 30, 1999. Contact: Andrea Beard

EPA authorized the use of emamectin benzoate on cotton to control beet armyworm; June 18, 1999, to September 30, 1999. Contact: Andrea Beard

EPA authorized the use of tebufenozide on cotton to control beet armyworm; June 18, 1999, to September 30, 1999. Contact: Andrea Beard

EPA authorized the use of azoxystrobin on soybean to control aerial blight; July 1, 1999, to August 30, 1999. Contact: Jacqueline Gwaltney

EPA authorized the use of tebufenozide on sweet potatoes to control the beet armyworm; July 16, 1999, to October 31, 1999. Contact: Andrew Ertman

EPA authorized the use of emamectin benzoate on cotton to control tobacco budworm; August 3, 1999, to September 30, 1999. Contact: Andrea Beard

EPA authorized the use of tebufenozide on pasture land to control fall army worms; September 17, 1999, to October 15, 1999. Contact: Barbara Madden

Maine

Department of Agriculture, Food, and Rural Resources

Specific: EPA authorized the use of oxyfluorfen on strawberries to control field pansy and wood sorrel; October 15, 1998 to October 15, 1999. Contact: Barbara Madden

EPA authorized the use of propamocarb hydrochloride on potatoes to control late blight; May 25, 1999, to May 25, 2000. Contact: Libby Pemberton

EPA authorized the use of propiconazole on blueberries to control mummy berry disease; April 15, 1999, to June 15, 1999. Contact: Steve Schaible

EPA authorized the use of coumaphos in beehives to control varroa mite and small hive beetle August 11, 1999, to August 5, 2000. Contact: Barbara Madden

Maryland

Department of Agriculture

Crisis: On July 7, 1999, for the use of fenpropathrin on soybean to control two-spotted spider mites. This program ended on September 30, 1999. Contact: Jacqueline Gwaltney

Specific: EPA authorized the use of coumaphos in beehives to control varroa mites and small hive beetle; February 18, 1999, to February 17, 2000. Contact: Barbara Madden

EPA authorized the use of chlorpropham on spinach to control chickweed; March 1, 1999, to March 5, 2000. Contact: David Deegan

EPA authorized the use of propamocarb hydrochloride on tomatoes to control late blight; June 3, 1999, to June 3, 2000. Contact: Libby Pemberton

EPA authorized the use of metolachlor on spinach to control weeds; July 9, 1999, to April 30, 2000. Contact: Andrew Ertman

EPA authorized the use of fenpropathrin in soybeans to control two-spotted spider mite; July 15, 1999, to September 30, 1999. Contact: Jacqueline Gwaltney

EPA authorized the use of myclobutanil on cucurbit vegetables to control powdery mildew; July 16, 1999, to September 30, 1999. Contact: David Deegan

Massachusetts

Department of Food and Agriculture

Specific: EPA authorized the use of propiconazole on blueberries to control mummy berry disease; April 22, 1999, to June 15, 1999. Contact: Steve Schaible

EPA authorized the use of pyridaben on cranberry to control Southern red mites; May 13, 1999, to August 31, 1999. Contact: David Deegan

EPA authorized the use of spinosad on cranberries to control sparganothis fruitworm; May 24, 1999, to August 15, 1999. Contact: Andrew Ertman

EPA authorized the use of coumaphos in beehives to control varroa mite and small hive beetle June 3, 1999, to June 3, 2000. Contact: Barbara Madden

Michigan

Department of Agriculture

Specific: EPA authorized the use of coumaphos in beehives to control varroa mites and small hive beetle; April 9, 1999, to September 30, 1999. Contact: Barbara Madden

EPA authorized the use of tebuconazole on wheat to control Fusarium head blight; May 6, 1999, to June 30, 1999. Contact: Steve Schaible

EPA authorized the use of myclobutanil on asparagus to control asparagus rust; May 13, 1999, to November 1, 1999. Contact: David Deegan

EPA authorized the use of propamocarb hydrochloride on potatoes to control late blight; June 18, 1999, to June 18, 2000. Contact: Libby Pemberton

EPA authorized the use of fomesafen on snap beans to control redroot pigweed and puncturevine; June 25, 1999, to August 30, 1999. Contact: Andrea Beard

EPA authorized the use of myclobutanil on cucurbit vegetables to control powdery mildew; July 16, 1999, to November 1, 1999. Contact: David Deegan

EPA authorized the use of triazamate on sugar beets to control root aphids; July 30, 1999, to September 15, 1999. Contact: Steve Schaible

Minnesota

Department of Agriculture

Crisis: On July 7, 1999, for the use of glufosinate-ammonium on sweet corn to control weeds. This program ended on July 15, 1999. Contact: Barbara Madden

Specific: EPA authorized the use of coumaphos in beehives to control varroa mites; January 1, 1999, to January 1, 2000. Contact: Barbara Madden

EPA authorized the use of imazamox on imidazolinone tolerant canola to control wild mustard; March 8, 1999, to July 15, 1999. Contact: Barbara Madden

EPA authorized the use of ethalfluralin on canola to control kochia; March 30, 1999, to December 31, 1999. Contact: David Deegan

EPA authorized the use of tetraconazole on sugarbeets to control cercospora leaf spot; April 7, 1999, to September 30, 1999. Contact: David Deegan

EPA authorized the use of tebuconazole on barley and wheat to control Fusarium head blight; April 9, 1999, to August 25, 1999. Contact: Steve Schaible

EPA authorized the use of imazamox on dry beans to control various nightshade species and velvetleaf; May 1, 1999, to June 30, 1999. Contact: Barbara Madden

EPA authorized the use of propamocarb hydrochloride on potatoes to control late blight; June 10, 1999, to June 10, 2000. Contact: Libby Pemberton

EPA authorized the use of propiconazole on dry beans to control rust; June 20, 1999, to August 31, 1999. Contact: Steve Schaible

EPA authorized the use of chlorine dioxide on stored potatoes to control late blight; September 9, 1999, to August 31, 2000. Contact: Andrew Ertman

Mississippi

Department of Agriculture and Commerce

Crisis: On August 12, 1999, for the use of spinosad on soybeans to control caterpillars. This program ended on August 27, 1999. Contact: Andrew Ertman

Denial: On July 2, 1999 EPA denied the use of fipronil on cotton to control the tarnished plant bug. This request was denied because effective registered pesticides are available and significant economic losses are not expected even under high pest pressure. Contact: Andrew Ertman.

Specific: EPA authorized the use of coumaphos in beehives to control varroa mites and small hive beetle; January 25, 1999, to January 25, 2000. Contact: Barbara Madden

EPA authorized the use of carbofuran flowable formulation on cotton to control aphids; March 15, 1999, to September 15, 1999. Contact: David Deegan

EPA authorized the use of emamectin benzoate on cotton to control beet armyworm and tobacco budworm; June 4, 1999, to September 30, 1999. Contact: Andrea Beard

EPA authorized the use of chlorfenapyr on cotton to control beet armyworm; June 14, 1999, to September 30, 1999. Contact: Andrea Beard

EPA authorized the use of tebufenozide in cotton to control beet armyworm; June 18, 1999, to September 30, 1999. Contact: Andrea Beard

Missouri

Department of Agriculture

Specific: EPA authorized the use of carbofuran flowable formulation on cotton to control aphids; July 9, 1999, to September 30, 1999. Contact: David Deegan

EPA authorized the use of coumaphos in beehives to control varroa mites and small hive beetle; September 29, 1999, to September 29, 2000. Contact: Barbara Madden

Montana

Department of Agriculture

Crisis: On May 4, 1999, for the use of azoxystrobin on sugar beets to control rhizoctonia crown and root rot. This program ended on July 1, 1999. Contact: Jacqueline Gwaltney

On August 19, 1999, for the use of lambda-cyhalothrin on canola to control lygus bugs. This program ended on September 2, 1999. Contact: Andrew Ertman

Denial: On May 25, 1999 EPA denied the use of dimethenamid on sugar beets to control hairy nightshade and redroot pigweed. This request was denied based on the determination that situation is routine, not urgent, and nor are growers likely to suffer from significant economic losses if the request is denied. Contact: Barbara Madden.

Specific: EPA authorized the use of coumaphos in beehives to control varroa mites; February 18, 1999, to February 18, 2000. Contact: Barbara Madden

EPA authorized the use of ethalfluralin on canola to control kochia; March 30, 1999, to December 31, 1999. Contact: David Deegan

EPA authorized the use of imazamox on dry beans to control various nightshade species and velvetleaf; May 1, 1999, to June 30, 1999. Contact: Barbara Madden

EPA authorized the use of pyridate on mint to control redroot pigweed and kochia; May 1, 1999, to December 31, 1999. Contact: Barbara Madden

EPA authorized the use of azoxystrobin on sugar beets to control rhizoctonia crown and root rot; May 1, 1999, to July 1, 1999. Contact: Jacqueline Gwaltney

EPA authorized the use of lambda-cyhalothrin on canola to control flea beetles; May 18, 1999, to June 30, 1999. Contact: Andrew Ertman

EPA authorized the use of paraquat dichloride on dry peas to control weeds; May 25, 1999, to November 30, 1999. Contact: Libby Pemberton

EPA authorized the use of triazamate on sugar beets to control root aphids; July 30, 1999, to September 15, 1999. Contact: Steve Schaible

EPA authorized the use of chlorine dioxide on stored potatoes to control late blight; September 10, 1999, to August 31, 2000. Contact: Andrew Ertman

Nebraska

Department of Agriculture

Specific: EPA authorized the use of coumaphos in beehives to control varroa mites and small hive beetle; March 12, 1999, to March 12, 2000. Contact: Barbara Madden

EPA authorized the use of propiconazole on dry beans to control rust; June 15, 1999, to August 1, 1999. Contact: Steve Schaible

EPA authorized the use of triazamate on sugar beets to control root aphids; July 30, 1999, to August 31, 1999. Contact: Steve Schaible

EPA authorized the use of imazapic-ammonium on pastureland/rangeland including land in the Conservation Reserve Program to control leafy spurge; August 30, 1999, to August 30, 2000. Contact: Libby Pemberton

EPA authorized the use of chlorine dioxide on stored potatoes to control late blight; September 10, 1999, to August 31, 2000. Contact: Andrew Ertman

Nevada

Department of Agriculture

Specific: EPA authorized the use of tebuconazole on garlic to control garlic rust; May 19, 1999, to June 15, 1999. Contact: Steve Schaible

EPA authorized the use of chlorine dioxide on stored potatoes to control late blight; September 21, 1999, to September 17, 2000. Contact: Andrew Ertman

New Hampshire

Department of Agriculture

Specific: EPA authorized the use of propiconazole on blueberries to control mummy berry disease; April 1, 1999, to August 1, 1999. Contact: Steve Schaible

New Jersey

Department of Environmental Protection

Crisis: On April 8, 1999, for the use of propiconazole on blueberries to control mummy berry disease. This program ended on June 30, 1999. Contact: Steve Schaible

Specific: EPA authorized the use of chlorpropham on spinach to control chickweed; March 1, 1999, to March 5, 2000. Contact: David Deegan

EPA authorized the use of coumaphos in beehives to control varroa mites and small hive beetle; March 10, 1999, to March 9, 2000. Contact: Barbara Madden

EPA authorized the use of propiconazole on blueberries to control mummy berry; April 22, 1999, to June 30, 1999. Contact: Steve Schaible

EPA authorized the use of imidacloprid on blueberries to control blueberry aphids; May 14, 1999, to August 15, 1999. Contact: Andrew Ertman

EPA authorized the use of imidacloprid on blueberries to control the oriental beetle; May 14, 1999, to August 15, 1999. Contact: Andrew Ertman

EPA authorized the use of imidacloprid on cranberries to control the cranberry rootworm; May 14, 1999, to September 1, 1999. Contact: Andrew Ertman

EPA authorized the use of propamocarb hydrochloride on potatoes to control late blight; May 25, 1999, to May 25, 2000. Contact: Libby Pemberton

EPA authorized the use of propamocarb hydrochloride on tomatoes to control late blight; June 3, 1999, to June 3, 2000. Contact: Libby Pemberton

New Mexico

Department of Agriculture

Specific: EPA authorized the use of propiconazole on grain sorghum to control sorghum ergot; June 1, 1999, to September 30, 1999. Contact: Steve Schaible

EPA authorized the use of tebufenozide on cotton to control beet armyworm; June 18, 1999, to September 30, 1999. Contact: Andrea Beard

New York

Department of Environmental Conservation

Specific: EPA authorized the use of coumaphos in beehives to control varroa mites and small hive beetle; March 9, 1999, to March 8, 2000. Contact: Barbara Madden

EPA authorized the use of desmedipham on garden beets to control broadleaf weeds; April 27, 1999, to July 31, 1999. Contact: Steve Schaible

EPA authorized the use of propamocarb hydrochloride on potatoes to control late blight; May 25, 1999, to May 25, 2000. Contact: Libby Pemberton

EPA authorized the use of myclobutanil on cucurbit vegetables to control powdery mildew; July 16, 1999, to September 30, 1999. Contact: David Deegan

North Carolina

Department of Agriculture

Crisis: On September 20, 1999, for the use of cyfluthrin and permethrin on livestock carcasses to control blowflies. Severe flooding from Hurricane Floyd gave rise to this public health crisis. This program ended on October 20, 1999. Contact: Steve Schaible

Denial: On July 2, 1999 EPA denied the use of clopyralid on apples to control clover. This request was denied based on the determination that the request does not meet the criteria of an emergency in accordance with 40 CFR section 166.3d. Contact: Barbara Madden.

On August 18, 1999 EPA denied the use of fluazinam on peanuts to control Sclerotinia blight. This request was denied because at this time the Agency's is not able to reach a “reasonable certainty of no harm” finding regarding health effects which may result if this use were to occur. Additionally, EPA is unable at this time to conclude that there will not be unacceptable adverse effects to the environment, including non-target organisms, endangered species, and ground water resources. Fluazinam is an unregistered chemical for which EPA has minimal data previously reviewed. Contact: Barbara Madden.

Specific: EPA authorized the use of coumaphos in beehives to control varroa mites and small hive beetle; February 19, 1999, to February 19, 2000. Contact: Barbara Madden

EPA authorized the use of chlorfenapyr on cotton to control beet armyworm; June 14, 1999, to September 30, 1999. Contact: Andrea Beard

EPA authorized the use of myclobutanil on cucurbit vegetables to control powdery mildew; July 16, 1999, to September 30, 1999. Contact: David Deegan

North Dakota

Department of Agriculture

Denial: On September 27, 1999, EPA denied the use of ethalfluralin on crambe to control kochia. This request was denied based on the determination that the described situation is routine and chronic, and does not therefore meet the established criteria under which EPA grants emergency exemptions. Contact: David Deegan

Crisis: On June 25, 1999, for the use of clopyralid on flax and crambe to control canada thistle and perennial sowthistle. This program ended on July 31, 1999. Contact: Libby Pemberton

On June 18, 1999, for the use of sethoxydim on buckwheat to control volunteer grains and foxtail. This program ended on July 18, 1999. Contact: Libby Pemberton

On July 8, 1999, for the use of paraquat on dry peas to control weeds. This program ended on September 15, 1999. Contact: Libby Pemberton

On August 6, 1999, for the use of lambda-cyhalothrin on flax to control grasshoppers. This program ended on August 20, 1999. Contact: Andrew Ertman

Specific: EPA authorized the use of imazamox on imidazolinone tolerant canola to control wild mustard; March 8, 1999, to July 15, 1999. Contact: Barbara Madden

EPA authorized the use of coumaphos in beehives to control varroa mites and small hive beetle; March 10, 1999, to March 9, 2000. Contact: Barbara Madden

EPA authorized the use of ethalfluralin on canola to control kochia; March 30, 1999, to December 31, 1999. Contact: David Deegan

EPA authorized the use of tetraconazole on sugarbeets to control cercospora leaf spot; April 7, 1999, to September 30, 1999. Contact: David Deegan

EPA authorized the use of tebuconazole on barley and wheat to control Fusarium head blight; April 9, 1999, to August 25, 1999. Contact: Steve Schaible

EPA authorized the use of imazamox on dry beans to control various nightshade species and velvetleaf; May 1, 1999, to June 30, 1999. Contact: Barbara Madden

EPA authorized the use of propamocarb hydrochloride on potatoes to control late blight; May 25, 1999, to May 25, 2000. Contact: Libby Pemberton

EPA authorized the use of propiconazole on dry beans to control rust; June 20, 1999, to August 31, 1999. Contact: Steve Schaible

EPA authorized the use of chlorine dioxide on stored potatoes to control late blight; September 10, 1999, to August 31, 2000. Contact: Andrew Ertman

Ohio

Department of Agriculture

Specific: EPA authorized the use of coumaphos in beehives to control varroa mites and small hive beetle; April 26, 1999, to February 26, 2000. Contact: Barbara Madden

EPA authorized the use of myclobutanil on caneberries to control orange rust; May 28, 1999, to October 31, 1999. Contact: Dave Deegan

EPA authorized the use of oxyfluorfen on strawberries to control broadleaf weeds; June 20, 1999, to December 15, 1999. Contact: Barbara Madden

EPA authorized the use of myclobutanil on cucurbit vegetables to control powdery mildew; July 16, 1999, to September 30, 1999. Contact: David Deegan

Oklahoma

Department of Agriculture

Crisis: On June 28, 1999, for the use of metsulfuron-methyl on sorghum to control weeds. This program ended on September 15, 1999. Contact: Andrew Ertman

On September 3, 1999, for the use of bifenthrin on peanuts to control Banks grass mites. This program ended on October 30, 1999. Contact: Andrea Beard

Denial: On August 18, 1999 EPA denied the use of fluazinam on peanuts to control Sclerotinia blight. This request was denied because at this time the Agency's is not able to reach a “reasonable certainty of no harm” finding regarding health effects which may result if this use were to occur. Additionally, EPA is unable at this time to conclude that there will not be unacceptable adverse effects to the environment, including non-target organisms, endangered species, and ground water resources. Fluazinam is an unregistered chemical for which EPA has minimal data previously reviewed. Contact: Barbara Madden.

Specific: EPA authorized the use of carbofuran flowable formulation on cotton to control aphids; March 15, 1999, to October 15, 1999. Contact: David Deegan

EPA authorized the use of emamectin benzoate on cotton to control beet armyworm June 4, 1999, to October 31, 1999. Contact: Andrea Beard

EPA authorized the use of chlorfenapyr on cotton to control beet armyworm; June 14, 1999, to September 30, 1999. Contact: Andrea Beard

EPA authorized the use of propiconazole on grain sorghum to control sorghum ergot; June 15, 1999, to September 30, 1999. Contact: Steve Schaible

EPA authorized the use of tebufenozide on cotton to control beet armyworm; June 18, 1999, to October 31, 1999. Contact: Andrea Beard

EPA authorized the use of metsulfuron-methyl on sorghum to control weeds; June 28, 1999, to September 15, 1999. Contact: Andrew Ertman

EPA authorized the use of dicloran on peanuts to control Sclerotinia blight; July 15, 1999, to October 15, 1999. Contact: Barbara Madden

EPA authorized the use of coumaphos in beehives to control varroa mites and small hive beetles; July 23, 1999, to July 20, 2000. Contact: Barbara Madden

EPA authorized the use of tebufenozide on peanuts to control beet armyworm; July 30, 1999, to October 15, 1999. Contact: Barbara Madden

Oregon

Department of Agriculture

Crisis: On March 26, 1999 for the use of tebuconazole Folicur 3.6 F Foliar Fungicide on hops to control powdery mildew. The state had requested a specific exemption for the use prior to the crisis declaration; the requested expiration date in the specific exemption was September 1, 1999. Contact: David Deegan

On April 29, 1999 for the use of Switch 62.5 WG containing the active ingredients fludioxonil and cyprodinil on caneberries to control gray mold. The state had requested a specific exemption for the use prior to the crisis declaration; the requested expiration date in the specific exemption was Septemeber 10, 1999. Contact: Steve Schaible

On May 12, 1999 for the use of Switch 62.5 WG containing the active ingredients fludioxonil and cyprodinil on strawberries to control gray mold. The state had requested a specific exemption for the use prior to the crisis declaration; the requested expiration date in the specific exemption was July 7, 1999. Contact: Steve Schaible

On July 1, 1999, for the use of cymoxanil on hops to control downy mildew. This program ended on September 10, 1999. Contact: Libby Pemberton

Denial: On September 20, 1999 EPA denied the uses of prohexadione calcium on apples and pears to control fire blight. These requests were denied because at this time the Agency's is not able to reach a “reasonable certainty of no harm” finding regarding health effects which may result if this use were to occur. Additionally, EPA is unable at this time to conclude that there will not be unacceptable adverse effects to the environment. Prohexadione Calcium is an unregistered chemical for which EPA has minimal data previously reviewed. Contact: Andrea Beard.

Specific: EPA authorized the use of coumaphos in beehives to control varroa mites; February 1, 1999, to February 1, 2000. Contact: Barbara Madden

EPA authorized the use of ethoprop on baby hops and idle hops to control garden symphylans; March 24, 1999, to May 31, 1999. Contact: Steve Schaible

EPA authorized the use of tebuconazole on barley to control barley stripe rust; April 23, 1999, to August 15, 1999. Contact: Steve Schaible

EPA authorized the use of myclobutanil on hops to control powdery mildew; April 27, 1999, to September 22, 1999. Contact: David Deegan

EPA authorized the use of tebuconazole on hops to control powdery mildew; April 27, 1999, to September 22, 1999. Contact: David Deegan

EPA authorized the use of pyridate on mint to control redroot pigweed and kochia; May 1, 1999, to December 31, 1999. Contact: Barbara Madden

EPA authorized the use of propiconazole on raspberries to control yellow rust; May 18, 1999, to November 1, 1999. Contact: Steve Schaible

EPA authorized the use of paraquat dichloride on green peas grown for seed and dry peas to control weeds; May 25, 1999, to November 30, 1999. Contact: Libby Pemberton

EPA authorized the use of propamocarb hydrochloride on potatoes to control late blight; May 25, 1999, to May 25, 2000. Contact: Libby Pemberton

EPA authorized the use of triazamate on true fir Christmas trees to control root aphids; May 27, 1999, to October 31, 1999. Contact: Steve Schaible

EPA authorized the use of trifloxystrobin on hops to control powdery mildew; June 28, 1999, to September 22, 1999. Contact: Dave Deegan

EPA authorized the use of fludioxonil on stone fruit to control brown rot, gray mold and Rhizopus rot; July 14, 1999, to September 30, 1999. Contact: Andrew Ertman

EPA authorized the use of propyzamide on grasses grown for seed to control grassy weeds; July 15, 1999, to January 20, 2000. Contact: Andrew Ertman

EPA authorized the use of Switch 62.5 WG containing the active ingredients fludioxonil and cyprodinil on caneberries to control gray mold; July 22, 1999, to September 10, 1999. Contact: Steve Schaible

EPA authorized the use of ethoprop on baby mint to control garden symphylans; August 17, 1999, to September 15, 1999. Contact: Steve Schaible

EPA authorized the use of chlorine dioxide on stored potatoes to control late blight; September 8, 1999, to August 31, 2000. Contact: Andrew Ertman

EPA authorized the use of flufenacet on wheat to control Italian ryegrass or annual ryegrass; October 4, 1999 through to June 30, 2000. Contact: Barbara Madden

Pennsylvania

Department of Agriculture

Specific: EPA authorized the use of coumaphos in beehives to control varroa mites and small hive beetle; January 1, 1999, to January 1, 2000. Contact: Barbara Madden

EPA authorized the use of myclobutanil on cucurbit vegetables to control powdery mildew; July 16, 1999, to September 30, 1999. Contact: David Deegan

EPA authorized the use of chlorine dioxide on stored potatoes to control late blight; September 3, 1999, to August 31, 2000. Contact: Andrew Ertman

EPA authorized the use of oxyfluorfen on strawberries to control field pansy, wood sorrel and groundsel; October 15, 1999, to December 15, 1999. Contact: Barbara Madden

Rhode Island

Department of Environmental Management

Specific: EPA authorized the use of coumaphos in beehives to control varroa mites and small hive beetle; May 13, 1999, to May 13, 2000. Contact: Barbara Madden

South Carolina

Clemson University

Crisis: On April 8, 1999, for the use of the product Switch, containing the active ingredients fludioxonil and cyprodinil on strawberries to control gray mold. This program ended on June 15, 1999. Contact: Steve Schaible

On May 18, 1999, for the use of fludioxonil on stone fruit to control brown rot. This program ended on September 1, 1999. Contact: Andrew Ertman

Specific: EPA authorized the use of coumaphos in beehives to control varroa mites and small hive beetle; January 1, 1999, to January 1, 2000. Contact: Barbara Madden

EPA authorized the use of chlorfenapyr on cotton to control beet armyworm; June 14, 1999, to September 30, 1999. Contact: Andrea Beard

South Dakota

Department of Agriculture

Specific: EPA authorized the use of coumaphos in beehives to control varroa mites and small hive beetle; March 23, 1999, to March 23, 2000. Contact: Barbara Madden

EPA authorized the use of pendimethalin on mint to control kochia and redroot pigweed; March 31, 1999, to November 1, 1999. Contact: Steve Schaible

EPA authorized the use of tebuconazole on barley and wheat to control Fusarium head blight; June 5, 1999, to August 25, 1999. Contact: Steve Schaible

EPA authorized the use of chlorine dioxide on stored potatoes to control late blight; October 18, 1999, to June 30, 2000. Contact: Andrew Ertman

EPA authorized the use of imazapic-ammonium on pastureland and rangeland to control leafy spurge; October 25, 1999, to October 25, 2000. Contact: Libby Pemberton

Tennessee

Department of Agriculture

Crisis: On May 28, 1999, for the use of sulfentrazone on cowpeas and lima beans to control hophornbeam copperleaf. This program ended on September 30, 1999. Contact: Barbara Madden

Denial: On April 19, 1999 EPA denied the use of acifluorfen on lima beans, Southern peas, and cowpeas to control hophornbeam copperleaf. This request was denied because at this time, EPA is unable to make the safety finding required under the Food Quality Protection Act FQPA of 1996. Therefore, tolerances necessary under the Federal Food Drug and Cosmetic Act FFDCA, section 40816 can not be extended. Contact: Barbara Madden.

Specific: EPA authorized the use of coumaphos in beehives to control varroa mites and small hive beetle; February 12, 1999, to February 11, 2000. Contact: Barbara Madden

EPA authorized the use of sulfentrazone on cowpeas and lima beans to control hophornbeam copperleaf; June 1, 1999, to September 30, 1999. Contact: Barbara Madden

EPA authorized the use of chlorfenapyr on cotton to control beet armyworm; June 14, 1999, to September 30, 1999. Contact: Andrea Beard

Texas

Department of Agriculture

Crisis: On June 28, 1999, for the use of metsulfuron-methyl on sorghum to control weeds. This program ended on July 12, 1999. Contact: Andrew Ertman

On September 8, 1999 for the use of fenbuconazole on grapefruit to control greasy spot. This program ended on October 1, 1999. Contact: Dan Rosenblatt

Denial: On March 9, 1999 EPA denied the use of diclosulam on peanuts to control weeds. This request was denied because adequate alternatives are available to control the weeds specified in this request. Contact: Barbara Madden.

On March 12, 1999 EPA denied the use of propazine on sorghum to control broadleaf weeds. This request was denied because aggregate risk from the triazine herbicides exceeds the level the Agency considers to represent a reasonable certainty of no harm. Contact: Steve Schaible

Specific: EPA authorized the use of tebuconazole on wheat to control leaf rust; March 12, 1999, to June 30, 1999. Contact: Steve Schaible

EPA authorized the use of carbofuran flowable formulation on cotton to control aphids; March 15, 1999, to September 30, 1999. Contact: David Deegan

EPA authorized the use of propiconazole on grain sorghum to control sorghum ergot; May 19, 1999, to December 31, 1999. Contact: Steve Schaible

EPA authorized the use of propamocarb hydrochloride on potatoes to control late blight; May 25, 1999, to May 25, 2000. Contact: Libby Pemberton

EPA authorized the use of tebufenozide on cotton to control beet armyworm; June 10, 1999, to September 30, 1999. Contact: Andrea Beard

EPA authorized the use of emamectin benzoate on cotton to control beet armyworm; June 10, 1999, to October 1, 1999. Contact: Andrea Beard

EPA authorized the use of chlorfenapyr on cotton to control beet armyworm; June 14, 1999, to September 30, 1999. Contact: Andrea Beard

EPA authorized the use of coumaphos in beehives to control varroa mite and small hive beetle June 28, 1999, to June 28, 2000. Contact: Barbara Madden

EPA authorized the use of dicloran on peanuts to control Sclerotinia blight; July 1, 1999, to October 31, 1999. Contact: Barbara Madden

EPA authorized the use of metolachlor on spinach to control weeds; July 1, 1999, to July 1, 2000. Contact: Andrew Ertman

EPA authorized the use of myclobutanil on cucurbit vegetables to control powdery mildew; July 16, 1999, to April 15, 2000. Contact: David Deegan

EPA authorized the use of bifenthrin on sorghum grown for seed to control Banks grass mite; August 24, 1999, to August 23, 2000. Contact: Andrea Beard

EPA authorized the use of fenbuconazole on grapefruit to control greasy spot; October 1, 1999, to October 1, 2000. Contact: Dan Rosenblatt

EPA authorized the use of chlorine dioxide on stored potatoes to control late blight; October 14, 1999, to September 29, 2000. Contact: Andrew Ertman

EPA authorized the use of norflurazon on bermudagrass to control annual grassy weeds; November 9, 1999, to November 9, 2000. Contact: Libby Pemberton

Utah

Department of Agriculture

Specific: EPA authorized the use of coumaphos in beehives to control varroa mite; June 9, 1999, to June 8, 2000. Contact: Barbara Madden

EPA authorized the use of chlorine dioxide on stored potatoes to control late blight; September 30, 1999, to September 21, 2000. Contact: Andrew Ertman

Virginia

Department of Agriculture and Consumer Services

Denial: On August 18, 1999 EPA denied the use of fluazinam on peanuts to control Sclerotinia blight. This request was denied because at this time the Agency's is not able to reach a “reasonable certainty of no harm” finding regarding health effects which may result if this use were to occur. Additionally, EPA is unable at this time to conclude that there will not be unacceptable adverse effects to the environment, including non-target organisms, endangered species, and ground water resources. Fluazinam is an unregistered chemical for which EPA has minimal data previously reviewed. Contact: Barbara Madden.

On September 17, 1999, EPA denied the use of Acibenzolar on tomatoes to control bacterial diseases. This request was denied because at this time the Agency's is not able to reach a “reasonable certainty of no harm” finding regarding health effects which may result if this use were to occur. Additionally, EPA is unable at this time to conclude that there will not be unacceptable adverse effects to the environment. Acibenzolar is an unregistered chemical for which EPA has minimal data previously reviewed. Contact: Andrea Beard.

Specific: EPA authorized the use of coumaphos in beehives to control varroa mites and small hive beetle; June 14, 1999, to June 10, 2000. Contact: Barbara Madden

EPA authorized the use of myclobutanil on cucurbit vegetables to control powdery mildew; July 16, 1999, to October 31, 1999. Contact: David Deegan

EPA authorized the use of chlorpropham on spinach to control chickweed; December 1, 1999, to April 30, 2000. Contact: David Deegan

Washington

Department of Agriculture

Crisis: On February 26, 1999, for the use of flufenacet on wheat to control Italian ryegrass or annual ryegrass . This program ended on May 31, 1999. Contact: Barbara Madden

On April 28, 1999, for the use of Switch 62.5 WG containing the active ingredients fludioxonil and cyprodinil on caneberries to control gray mold. The state had requested a specific exemption for the use prior to the crisis declaration; the requested expiration date in the specific exemption was September 10, 1999. Contact: Steve Schaible

On May 11, 1999, for the use of Switch 62.5 WG containing the active ingredients fludioxonil and cyprodinil on strawberries to control gray mold. The state had requested a specific exemption for the use prior to the crisis declaration; the requested expiration date in the specific exemption was July 22, 1999. Contact: Steve Schaible

On July 2, 1999, for the use of imazamox on dry bean to control nightshade and velvetleaf. This program ended on/is expected to end on August 15 , 1999. Contact: Barbara Madden

Specific: EPA authorized the use of coumaphos in beehives to control varroa mites and small hive beetle; February 1, 1999, to February 1, 2000. Contact: Barbara Madden

EPA authorized the seed treatment use of fosetyl-Al on peas to control downy mildew; March 1, 1999, to April 30, 1999. Contact: Steve Schaible

EPA authorized the use of propiconazole on blueberries to control mummy berry disease; March 15, 1999, to June 10, 1999. Contact: Steve Schaible

EPA authorized the use of propiconazole on cranberries to control cottonball disease; April 19, 1999, to July 31, 1999. Contact: Steve Schaible

EPA authorized the use of tebuconazole on barley to control barley stripe rust; April 23, 1999, to August 15, 1999. Contact: Steve Schaible

EPA authorized the use of myclobutanil on hops to control powdery mildew; April 27, 1999, to September 22, 1999. Contact: David Deegan

EPA authorized the use of tebuconazole on hops to control powdery mildew; April 27, 1999, to September 22, 1999. Contact: David Deegan

EPA authorized the use of pyridate on mint to control redroot pigweed and kochia; May 1, 1999, to December 31, 1999. Contact: Barbara Madden

EPA authorized the use of propiconazole on raspberries to control yellow rust; May 18, 1999, to July 1, 1999. Contact: Steve Schaible

EPA authorized the use of paraquat dichloride on green peas grown for seed and dry peas to control weeds; May 25, 1999, to May 30, 1999. Contact: Libby Pemberton

EPA authorized the use of propamocarb hydrochloride on potatoes to control late blight; May 25, 1999, to May 25, 2000. Contact: Libby Pemberton

EPA authorized the use of triazamate on true fir Christmas trees to control root aphids; May 27, 1999, to October 31, 1999. Contact: Steve Schaible

EPA authorized the use of pirimicarb on vegetable seed crops to control aphids; June 18, 1999, to September 15, 1999. Contact: Steve Schaible

EPA authorized the use of trifloxystrobin on hops to control powdery mildew; June 24, 1999, to September 22, 1999. Contact: Dave Deegan

EPA authorized the use of cyhexatin on hops to control Two-spotted spider mites; July 1, 1999, to September 20, 1999. Contact: David Deegan

EPA authorized the use of imazamox on dry beans to control nightshade and velvetleaf; July 2, 1999, to August 15, 1999. Contact: Barbara Madden

EPA authorized the use of Switch 62.5 WG containing the active ingredients fludioxonil and cyprodinil on caneberries to control gray mold; July 22, 1999, to September 10, 1999. Contact: Steve Schaible

EPA authorized the use of chlorine dioxide on stored potatoes to control late blight; September 8, 1999, to August 31, 2000. Contact: Andrew Ertman

EPA authorized the use of flufenacet on wheat to control Italian ryegrass or annual ryegrass; October 4, 1999, to June 30, 2000. Contact: Barbara Madden

EPA authorized the use of oxyfluorfen on strawberries to control broadleaf weeds; December 15, 1999, to August 15, 2000. Contact: Barbara Madden

West Virginia

Department of Agriculture

Specific: EPA authorized the use of coumaphos in beehives to control varroa mite and small hive beetle; May 20, 1999, to May 18, 2000. Contact: Barbara Madden

Wisconsin

Department of Agriculture, Trade, and Consumer Protection

Denial: On May 4, 1999 EPA denied the use of dimethenamid on dry bulb, onions to control annual grasses and broadleaf weeds. This request was denied because the situation is routine, not urgent, and nor are growers likely to suffer from significant economic losses if the request is denied. The availability of a new pesticide to control a chronic pest problem does not constitute a non-routine condition. Historically, use of hand labor has compensated for inadequate weed control by registered herbicides. Contact: Barbara Madden

Specific: EPA authorized the use of coumaphos in beehives to control varroa mites; January 1, 1999, to January 1, 2000. Contact: Barbara Madden

EPA authorized the use of propiconazole on cranberries to control cottonball disease; April 15, 1999, to July 31, 1999. Contact: Steve Schaible

EPA authorized the use of pyridate on mint to control redroot pigweed; May 1, 1999, to December 31, 1999. Contact: Barbara Madden

EPA authorized the use of glufosinate-ammonium on sweet corn to control weeds; May 24, 1999, to July 15, 1999. Contact: Barbara Madden

EPA authorized the use of propamocarb hydrochloride on potatoes to control late blight; May 25, 1999, to May 25, 2000. Contact: Libby Pemberton

EPA authorized the use of chlorine dioxide on stored potatoes to control late blight; September 9, 1999, to August 31, 2000. Contact: Andrew Ertman

Wyoming

Department of Agriculture

Denial: On May 24, 1999 EPA denied the use of fipronil on rangeland, non-crop land, and CRP land to control grasshoppers. This request was denied because the situation is routine, not urgent; it was determined that the use of registered alternatives in a RAATs strategy would adequately control rangeland grasshoppers. EPA also has concerns regarding potential ecological risk to non-target organisms from fipronil and its photodegradates. Contact: Steve Schaible

Specific: EPA authorized the use of imazamox on dry beans in Wyoming to control various nightshade species and velvetleaf; June 1, 1999, to July 15, 1999. Contact: Barbara Madden

EPA authorized the use of coumaphos in beehives to control varroa mite and small hive beetle; September 17, 1999, to September 15, 2000. Contact: Barbara Madden

B. Federal Departments and Agencies

Agriculture Department

Animal and Plant Health Inspection Service

Quarantine: EPA authorized the use of sodium carbonate 4.0% solution on surfaces potentially exposed to certain animal diseases, including semen containers, aircraft, and structural surfaces at animal import centers, plant inspection stations and ports to control certain animal diseases; April 15, 1999, to April 15, 2002. Contact: David Deegan

EPA authorized the use of sodium carbonate 4.0% solution plus sodium silicate 0.1% solution on aircraft surfaces potentially exposed to certain animal diseases, in or on semen containers to control certain animal diseases; April 15, 1999, to April 15, 2002. Contact: David Deegan

EPA authorized the use of sodium hypochlorite in a solution not to exceed 12.5% on surfaces potentially exposed to certain animal diseases, and to plant parts or plant materials to control certain animal diseases; April 15, 1999, to April 15, 2002. Contact: David Deegan

EPA authorized the use of sodium hydroxide in a 2.0% solution on exposed surfaces, animal product containers, hay and straw to control certain animal diseases; April 15, 1999, to April 15, 2002. Contact: David Deegan

Defense Department

Quarantine: EPA authorized the use of paraformaldehyde on biological containment areas, biological safety cabinets and equipment, and high efficiency particulate air filters in the ventilation system to control the release of infectious microorganisms from containment areas; July 6, 1999, to July 6, 2002. Contact: Libby Pemberton

List of Subjects

Environmental protection, Pesticides and pests.

Dated: January 11, 2000.
James Jones,
Director, Registration Division, Office of Pesticide Programs.

[FR Doc. 00-1546 Filed 1-21-00; 8:45 am]

BILLING CODE 6560-50-F